DEPARTMENT OF THE INTERIOR

Fish and Wildlife Service

[Docket No. FWS-R8-ES-2023-0107; FF09M21200-234-FXMB1231099BPP0; OMB Control Number 1018-New]

Agency Information Collection Activities; Western Snowy Plover Survey and Reporting

AGENCY: Fish and Wildlife Service, Interior.

ACTION: Notice of information collection; request for comment.

SUMMARY: In accordance with the Paperwork Reduction Act of 1995, we, the U.S. Fish and Wildlife Service (Service), are proposing a new information collection in use without Office of Management and Budget (OMB) approval.

DATES: Interested persons are invited to submit comments on or before April 8, 2024.

ADDRESSES: Send your comments on the information collection request (ICR) by one of the following methods (please reference 1018-Snowy Plovers in the subject line of your comments):

• Internet (preferred): https://www.regulations.gov. Follow the instructions for submitting comments on Docket No. FWS-R8-ES-2023-0107.

• Email: Info_Coll@fws.gov.

• U.S. mail: Service Information Collection Clearance Officer, U.S. Fish and Wildlife Service, 5275 Leesburg Pike, MS: PRB (JAO/3W), Falls Church, VA 22041-3803.

FOR FURTHER INFORMATION CONTACT: To request additional information about this ICR, contact Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA, 44 U.S.C. 3501 et seq.) and its implementing regulations at 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Endangered Species Act of 1973, as amended (ESA; 16 U.S.C. 1531 et seq.), was established to provide a means to conserve the ecosystems upon which endangered and threatened species depend, to provide a program for the conservation of these endangered and threatened species, and to take the appropriate steps that are necessary to bring any endangered or threatened species to the point where measures provided for under the ESA are no longer necessary.

The western snowy plover (Charadrius nivosus nivosus; hereafter referred to as plover) is a federally threatened species protected under the ESA. Corvid-caused predation is detrimental to plover survival and changes by site and by year. A corvid is any member of the Corvidae family of stout-billed passerine birds, such as crows, jays, magpies, and raven.

The Western Snowy Plover Recovery Unit 2 Outreach Subcommittee is committed to plover outreach and education. The subcommittee is comprised of partners including the Arcata Fish and Wildlife Office, Humboldt Bay National Wildlife Refuge, California State Parks, National Park Service, Bureau of Land Management, Friends of the Dunes, Tolowa Dunes Stewards, Humboldt County Parks, and California State Polytechnic University-Humboldt. The Kure/Stuyvesant Trustee Council (KSTC) is composed of representatives from the Service, the California Department of Fish and Wildlife, and the California State Lands Commission and is the entity providing funding through the Kure/Stuyvesant Restoration Fund for Friends of the Dunes to complete the action described below.

Crumb Clean Message Effectiveness Social Survey—The social survey for the redesigned Crumb Clean Campaign will be used to assess the effectiveness of the campaign's message (the campaign's goal is education on keeping wild animals from getting access to human food in California State Parks). Information collected will strictly be regarding the messaging of the Crumb Clean Campaign, and what can be done to improve the overall message quality and effectiveness. The survey will be administered three times during summer. Data collected will be used to inform any necessary adjustment to a required presentation on the Crumb Clean Campaign.

Crumb Clean Report—A report on the results of the survey must be submitted to the Service. This report must be compliant with section 508 of the Rehabilitation Act of 1973, as amended (29 U.S.C. 794d).

These reports will include Crumb Clean Questionnaire results, locations of distribution, and hours spent.

• Related Information Collection Activities Already Approved by the Office of Management and Budget

• Banding activities under the U.S. Geological Survey's “Bird Banding and Recovery Reports” (OMB Control No. 1028-0082);

• ESA permitting activities under the Service's “Federal Fish and Wildlife Permit Applications and Reports—Native Endangered and Threatened Species; 50 CFR 10, 13, and 17” (OMB Control No. 1018-0094); and

• Service Manual chapter 516 FW 1—Monitoring Financial and Performance Reporting for Financial Assistance (OMB Control No. 1018-0100).

The public may request a copy of the proposed survey instruments or any other document in this information collection by sending a request to the Service Information Collection Clearance Officer (see ADDRESSES).

Title of Collection: Western Snowy Plover Outreach and Monitoring.

OMB Control Number: 1018-New.

Form Number: None.

Type of Review: New collection in use without OMB approval.

Respondents/Affected Public: Individuals/households; private sector; and State, local, and Tribal governments.

Respondent's Obligation: Required to obtain or retain a benefit for monitoring and annual reports, and voluntary for surveys.

Frequency of Collection: On occasion.

Total Estimated Annual Non hour Burden Cost: None.

Requirement | Average number of annual respondents | Average number of responses each | Average number of annual responses | Average completion time per response (hours) * | Estimated annual burden hours *
Crumb Clean Message Effectiveness Social Survey (Individuals)
Individuals | 50 | 1 | 50 | 0.25 | 13
Annual Report (Private Sector)
Reporting | 2 | 1 | 2 | 10 | 20
Recordkeeping |  |  |  | 1 | 2
Totals | 50 |  | 50 |  | 13
* Rounded.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2024-02569 Filed 2-7-24; 8:45 am]

BILLING CODE 4333-15-P